FEDERAL COMMUNICATIONS COMMISSION

Notice of Public Information Collection(s) Being Reviewed by the Federal Communications Commission, Comments Requested

June 22, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 28, 2001. If you anticipate that you will be submitting comments, but find it difficult to do so within the period of time allowed by this notice, you should advise the contact listed below as soon as possible.

ADDRESSES: Direct all comments to Les Smith, Federal Communications Commission, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0548.

Title: Section 76.1709 and Section 76.1620 Availability of Signals.

Form Number: N/A.

Type of Review: Extension of currently approved collection.

Respondents: Business or other for-profit entities.

Number of Respondents: 11,000.

Estimated Time Per Response: 0.5-1.0 hour.

Total Annual Costs: $110,000.

Needs and Uses: Section 76.1709 was previously reported as section 76.302, which requires the operator of every cable television system to maintain a public inspection file containing a list of all broadcast television stations carried by its system in fulfillment of the must-carry requirements pursuant to Section 76.1620 and the designation and location of its principal headend. Sections 76.1709 and 76.1620 state that upon written request from any person, a cable operator is required to provide the lists of must-carried signals in writing within 30 days of receipt of such request. Additionally, Section 76.1620 states that if a cable operator authorizes subscribers to install additional receiver connections, but does not provide the subscriber with such connections, or with the equipment and materials for such connections, the operator shall notify such subscribers of all broadcast stations carried on the cable system which cannot be viewed via cable without a converter box and shall offer to sell or lease such a converter box to such subscribers. The notice, which may be included in routine billing statements, shall identify the signals that are unavailable without an additional connection, the manner for obtaining such additional connection, and instructions for installation. These notification and recordkeeping requirements ensure that subscribers are aware of which channels cannot be viewed without converter boxes and which channels are defined as must-carry. The records kept by cable television systems are reviewed by Commission staff during field inspections and by local public officials to assess the system's compliance with applicable rules and regulations.

OMB Control Number: 3060-0652.

Title: Section 76.1603 Customer service—rate and service changes.

Form Number: N/A.

Type of Review: Extension of currently approved collection.

Respondents: Business or other for-profit entities.

Number of Respondents: 11,375.

Estimated Time Per Response: 10 minutes to 1.0 hour.

Total Annual Costs: $100,000.

Needs and Uses: Section 76.1603 was previously cited as 76.309, which sets forth various customer service obligations and notification requirements for changes in rates, programming services and channel positions. Section 76.1603 states that franchise authorities must provide affected operators 90 days written notice of its intent to enforce customer service standards. In addition, section 76.1603 states that cable operators shall provide written information on each of the following areas at the time of installation of service, at least annually to all subscribers, and at any time upon request: (1) Products and services offered; (2) Prices and options for programming services and conditions of subscription to programming and other services; (3) Installation and service maintenance policies; (4) Instructions on how to use the cable service; (5) Channel positions programming carried on the system; and (6) Billing complaint procedures, including the address and telephone number of the local franchise authority's cable office. Section 76.1603 states that customers will be notified of any changes in rates, programming services or channel positions as soon as possible in writing. Notice must be given to subscribers a minimum of thirty (30) days in advance of such changes if the change is within the control of the cable operator. In addition, the cable operator shall notify subscribers 30 days in advance of any significant changes in the other information required by section 76.1603. Section 76.1603 states that in addition to the requirements regarding advanced notification to customers of any changes in rates, programming services or channel positions, cable systems shall give 30 days written notice to both subscribers and local franchising authorities before implementing any rate or service change. Such notice shall state the precise amount of any rate change and briefly explain in readily understandable fashion the cause of the rate change (e.g. inflation, changes in external costs or the addition/deletion of channels). When the change involves the addition or deletion of channels, each channel added or deleted must be separately identified. Notices to subscribers shall inform them of their right to file complaints about changes in cable programming service tier rates and services, shall state that the subscriber may file the complaint within 90 days of the effective date of the rate change, and shall provide the address and phone number of the local franchising authority. Section 76.1603 states that in case of a billing dispute, the cable operator must respond to a written complaint within 30 days. The Commission requires the various disclosure and notifications contained in this collection as a means of consumer protection to ensure that subscribers and franchising authorities are knowledgeable of cable operators' business practices, current rates, rate changes for programming service and equipment, and channel line-up changes.

OMB Control Number: 3060-0419.

Title: Section 76.94, 76.95, 76.155, 76.156, 76.157 and 76.159, Syndicated Exclusivity and network Non-Duplication Rights.

Form Number: N/A.

Type of Review: Extension of currently approved collection.

Respondents: Business or other for-profit entities.

Number of Respondents: 5,392 (1,141 commercial television stations + 4,251 cable television stations).

Estimated Time Per Response: 0.5-2.0 hours.

Total Annual Costs: $192,132.

Needs and Uses: Commission rules, as listed above, require television stations, broadcast television stations and program distributors to notify cable television system operators of non-duplication protection and exclusivity rights being sought within prescribed limitations and terms of contractual agreements. The purpose of the various notification and disclosure requirements accounted for in this information collection is to protect broadcasters who purchase the exclusive rights to transmit syndicated programming in their recognized markets.

OMB Control Number: 3060-0287.

Title: Section 78.69 Cable Relay Station Records.

Form Number: N/A.

Type of Review: Extension of currently approved collection.

Respondents: Business or other for-profit entities.

Number of Respondents: 1,800.

Estimated Time Per Response: 26 hours.

Total Annual Costs: $9,000.

Needs and Uses: Section 78.69 requires that licensees of cable CARS stations maintain various records, including but not limited to records pertaining to transmissions, unscheduled interruptions to transmissions, maintenance, observations, inspections and repairs. Station records are required to be maintained for a period of not less than two years. The records kept pursuant to Section 78.69 provide for a history of station operations and are reviewed by Commission staff during field investigations to ensure that proper operation of the stations is being conducted.

OMB Control Number: 3060-0849.

Title: Commercial Availability of Navigation Devices.

Form Number: N/A.

Type of Review: Extension of currently approved collection.

Respondents: Business or other for-profit entities.

Number of Respondents: 200.

Estimated Time Per Response: 10 minutes to 40 hours.

Total Annual Costs: $29,632.

Needs and Uses: The disclosure requirements set forth in this proceeding will ensure that consumers can make informed decisions about the purchase and proper installation of navigation devices. The Section 76.1207 petition process will give providers of multichannel video programming and equipment providers a forum in which to request relief from regulations adopted under this Part for a limited time, provided that there is an appropriate showing that such a waiver is necessary to assist the development or introduction of a new or improved multichannel video programming or other service offered over multichannel video programming systems, technology, or products. The Section 76.1208 petition process allows interested parties to petition the Commission to provide for a sunset of navigation devices regulations. The semiannual reports will be used by the Commission to monitor the progress of key industry entities of their efforts to assure commercial availability of navigation devices.

Federal Communications Commission.
Magalie Roman Salas,
Secretary.

[FR Doc. 01-16424 Filed 6-28-01; 8:45 am]

BILLING CODE 6712-01-P